INTERNATIONAL TRADE COMMISSION

[Investigation No. 337-TA-1210]

Certain Wrapping Material and Methods for Use in Agricultural Applications; Commission Determination Not To Review an Initial Determination Amending the Complaint and Notice of Investigation To Add a Respondent

AGENCY: U.S. International Trade Commission.

ACTION: Notice.

SUMMARY: Notice is hereby given that the U.S. International Trade Commission has determined not to review an initial determination (“ID”) (Order No. 8) issued by the presiding administrative law judge (“ALJ”) amending the complaint and notice of investigation to add Zhejiang Yajia Packaging Materials Co., Ltd. as a respondent.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 11, 2020, the Commission instituted this investigation based on a complaint filed on behalf of Tama Group of Israel and Tama USA Inc. of Dubuque, Iowa (together, “Tama”). 85 FR 48561-62 (Aug. 11, 2020). The complaint alleged violations of section 337 of the Tariff Act of 1930, as amended, 19 U.S.C. 1337, based upon the importation into the United States, the sale for importation, and the sale within the United States after importation of certain wrapping material and methods for use in agricultural applications by reason of infringement of one or more of claims 1, 2, 4-16, 18, 28, 32, 33, and 35-45 of U.S. Patent No. 6,787,209. Id. The Commission's notice of investigation named as respondents Zhejiang Yajia Cotton Picker Parts Co., Ltd. of Zhuji City, China; Southern Marketing Affiliates, Inc. of Jonesboro, Arkansas; Hai'an Xin Fu Yuan of Agricultural, Science, and Technology Co., Ltd. of Nantong, China; and Gosun Business Development Co. Ltd. of Grande Prairie, Canada. Id. at 48561. The Office of Unfair Import Investigations is not participating in this investigation. Id.

On September 16, 2020, Tama moved for leave to amend the complaint and notice of investigation to add Zhejiang Yajia Packaging Materials Co., Ltd. (“Yajia Packaging”) as a respondent. Tama stated that good cause exists for the amendments because Tama learned of Yajia Packaging's involvement through discovery. No party opposed the motion.

On October 7, 2020, the ALJ issued the subject ID and granted the motion for leave to amend the complaint and notice of investigation. No party petitioned for review of the subject ID.

The Commission has determined not to review the subject ID. Yajia Packaging is a respondent in this investigation.

The Commission vote for these determinations took place on October 26, 2020.

The authority for the Commission's determination is contained in section 337 of the Tariff Act of 1930, as amended (19 U.S.C. 1337), and in part 210 of the Commission's Rules of Practice and Procedure (19 CFR part 210).

By order of the Commission.
Issued: October 27, 2020.
Lisa Barton,
Secretary to the Commission.

[FR Doc. 2020-24116 Filed 10-29-20; 8:45 am]

BILLING CODE 7020-02-P